DEPARTMENT OF COMMERCE

Patent and Trademark Office

[Docket No. PTO-C-2023-0022]

Request for Comments on Southeast Regional Office and Community Outreach Office Locations

AGENCY: United States Patent and Trademark Office, Department of Commerce.

ACTION: Request for comments.

SUMMARY: The United States Patent and Trademark Office (USPTO or Office) is seeking information to inform the planning and design of the USPTO satellite offices (regional offices) and newly-authorized community outreach offices (COOs). The USPTO is also seeking information on potential locations for a future USPTO regional office in the southeast region of the United States (Southeast Regional Office or SERO) and a COO in the northern New England (NNE) region (Northern New England Community Outreach Office) that the USPTO was directed to establish under the Unleashing American Innovators Act of 2022 (UAIA), signed into law as part of the Consolidated Appropriations Act, 2023 on December 29, 2022.

DATES: To ensure consideration, written comments must be received by 5 p.m. ET on or before July 11, 2023 and should be submitted in accordance with the instructions in the ADDRESSES and SUPPLEMENTARY INFOMRATION sections. No public hearing will be held.

ADDRESSES: For reasons of government efficiency, comments must be submitted electronically by completing the form at https://iqconnect.iqfed.com/iqextranet/EForm.aspx?_cid=USPTO&_fid=100155. Complete the required fields using the pre-formatted response form that will allow you to comment on each topic of interest or question you choose to address. You may enter your responses directly into the form or cut and paste your responses from a MICROSOFT WORD® or ADOBE® portable document format (PDF) document into the field provided for each question. You must submit any attachments that provide additional support to a question through the electronic form. Attachments to the form will be accepted as ADOBE® PDF or MICROSOFT WORD® documents. To be considered, comments must be submitted through the electronic form. Because comments will be made available for public inspection, information that the submitter does not desire to make public, such as an address or phone number, should not be included in the comments.

If submission of comments through the electronic form is not feasible due to a lack of access to a computer and/or the internet, please contact the USPTO using the contact information below for special instructions regarding how to submit comments by mail or by hand delivery, based on the public's ability to obtain access to USPTO facilities at the time.

FOR FURTHER INFORMATION CONTACT: Shirin Bidel-Niyat, Chief of Staff, Office of the Under Secretary of Commerce for Intellectual Property and Director of the USPTO, at 571-272-8600 or NewOffices@uspto.gov.

SUPPLEMENTARY INFORMATION:

I. Background

Enabled by the 2011 America Invents Act (AIA), the USPTO currently has four regional offices that are located in Detroit, Michigan; San Jose, California (Silicon Valley); Denver, Colorado; and Dallas, Texas. The purposes of the regional offices (ROs), as originally defined in the AIA and amended by the UAIA, are to:

• RO1: Better connect patent filers and innovators with the Office, including by increasing outreach activities to individual innovators, small businesses, veterans, low-income populations, students, rural populations, and any geographic group of innovators that the Director may determine to be underrepresented in patent filings;

• RO2: Enhance patent examiner and administrative patent judge retention, including patent examiners and administrative patent judges from economically, geographically, and demographically diverse backgrounds;

• RO3: Improve recruitment of patent examiners;

• RO4: Decrease the number of patent applications waiting for examination; and

• RO5: Improve the quality of patent examination.

The USPTO has been focused on outreach and impact, and is working on ways to better support those new to the innovation ecosystem, bringing more people in America into the fold. The USPTO is also studying the role of the regional offices in serving both the public and the needs of our colleagues across the agency.

The UAIA supports the USPTO's expanded outreach efforts by requiring the USPTO to establish, within three years of enactment (i.e., no later than December 29, 2025), a Southeast Regional Office in the geographic region comprised of the states of Virginia, North Carolina, South Carolina, Georgia, Florida, Tennessee, Alabama, Mississippi, Louisiana, and Arkansas. The UAIA requires the Office to consider the following when selecting the site for the SERO:

• SERO1: Number of patent-intensive industries that are located near the site;

• SERO2: How many research-intensive institutions, including higher education institutions, are located near the site;

• SERO3: Governmental and business frameworks, at both the State and local levels, that support intellectual property-intensive industries that are located near the site; and

• SERO4: The proximity of the office to anchor institutions (such as hospitals primarily serving veterans and institutions of higher education), individual inventors, small businesses, veterans, low-income populations, students, rural populations, and any geographic group of innovators that the Director may determine to be underrepresented in patent filings.

The Act also requires the USPTO to report out within two years on whether additional offices are necessary to further increase participation in the patent system by individuals who have historically been underrepresented in patent filings.

In addition to regional offices, the UAIA requires the USPTO to establish at least four COOs within five years from enactment of the Act (i.e., no later than December 29, 2027). The purposes of the COOs are to:

• COO1: Further achieve the purposes described above for the regional offices;

• COO2: Develop partnerships with local community organizations, institutions of higher education and/or research, and businesses to create tailored community-based programs that provide education regarding the patent system and promote the career benefits of innovation and entrepreneurship; and

• COO3: Educate prospective inventors, including individual inventors, small businesses, veterans, low-income populations, students, rural populations, and any geographic group of innovators that the Director may determine to be underrepresented in patent filings, about all public and private resources available to potential patent applicants, including the patent pro bono programs.

The UAIA prohibits the establishment of a COO in the same state as the principal location of the USPTO (Virginia), or in a state that has a regional office (California, Colorado, Michigan, or Texas). The UAIA also requires that at least one of the COOs be established in the NNE region and serve the states of Vermont, New Hampshire, and Maine. Under the Act, the Office must give preference to locations where:

• NNECOO1: There is at least one private institution of higher education and at least one public institution of higher education;

• NNECOO2: There are no more than 15 registered patent attorneys based on information from the USPTO's Office of Enrollment and Discipline; and

• NNECOO3: According to data from the 2012 Survey of Business Owners conducted by the U.S. Census Bureau, less than 45% of the firms are owned by women, minorities, or veterans.

The USPTO will use quantitative metrics and criteria to inform the location selection for future ROs and COOs. The Office plans to consider the following classes of data (D) at a minimum:

• D1: Business demographics

• D2: Concentration of research- and IP-intensive industries

• D3: Socioeconomic and demographic metrics of the regional/local population

• D4: Availability and concentration of existing business development resources

• D5: Overall geographic diversity of office locations

The USPTO welcomes input from all stakeholders on any matter that they believe is relevant to the overall planning and design of the USPTO RO and COOs, or the selection of locations for the new SERO or NNECOO. Commenters are encouraged to address any or all of the statutory considerations listed in the UAIA and summarized above, any other considerations they believe the USPTO should consider, and the questions listed below.

Commenting Instructions: To be considered, comments must be submitted through the electronic form available at https://iqconnect.iqfed.com/iqextranet/EForm.aspx?_cid=USPTO&_fid=100155.

Please cite any public data that relates to or supports your responses. If data is available but non-public, describe such data to the extent permissible.

II. Specific Request for Comments: Planning and Design of Regional Offices and Community Outreach Offices

With the addition of COOs to the agency's footprint, the USPTO envisions the joint mission of the ROs and COOs to be the cultivation and expansion of a vibrant and inclusive innovation and entrepreneurship ecosystem supported by intellectual property across the United States. To accomplish this mission, the offices will conduct broad stakeholder engagement with innovators ranging from individual inventors to multinational business entities; establish and leverage partnerships and relationships to scale the USPTO's work; incentivize regional innovation and entrepreneurship, especially in key emerging areas; and promote full participation by innovators and entrepreneurs of all backgrounds, including in rural areas and from our military, to support U.S. innovation and jobs.

The USPTO invites responses to the following questions:

Regional offices:

1. Considering the envisioned mission above, what essential services—including outreach, education, customer service, convening space, and employee support—should a RO provide to achieve the statutory purposes?

a. Do you prefer to have the services you identified delivered virtually? Why or why not?

b. Do you prefer to have the services you identified delivered in person? Why or why not?

2. What types of organizations should the RO pursue relationships and collaborations with to better leverage and scale its services?

Community outreach offices:

3. Considering the envisioned mission above, what essential services—including outreach, education, and customer service—should a COO provide to achieve the statutory purposes?

a. Do you prefer to have the services you identified delivered virtually? Why or why not?

b. Do you prefer to have the services you identified delivered in person? Why or why not?

4. What types of organizations should the COO pursue relationships and collaborations with to better leverage and scale its services?

5. Would you support a COO being co-located with other public sector entities/services?

a. If so, please describe the added value of having a shared location.

b. Which public sector entities/services would you suggest for the shared location(s)?

c. If not, please describe the benefit of having a unique location for a COO.

General comments regarding regional and community outreach offices:

6. What unique services should the ROs and COOs individually provide, and how should the full range of services complement each other?

7. Considering the potential classes of data listed in part I above, what additional key indicators or data would support future RO and COO site selection?

8. What else should the USPTO consider when planning for the ROs and COOs?

III. Specific Request for Comments: Location of the Southeast Regional Office

Given the statutory purposes and considerations of ROs, including those specific to the SERO, as discussed in part I, and the planning and design considerations identified in part II:

9. What data would assist in assessing potential locations for the SERO site?

10. What is an ideal location for the SERO? Describe how this location meets the statutory purposes and considerations.

11. What State or local government, legal, and business frameworks that support intellectual property-intensive industries are located near the recommended site?

12. What else should the USPTO consider when determining the ideal location for the SERO?

IV. Specific Request for Comments: Location of the Northern New England Community Outreach Office

Given the statutory purposes and considerations of COOs, including those specific to the NNECOO, as discussed in part I, and the planning and design considerations identified in part II:

13. What data would assist in assessing potential locations for the NNECOO site?

14. What is an ideal location for the NNECOO? Describe how this location meets the statutory purposes and considerations.

15. What community organizations/businesses near the recommended office location could the USPTO collaborate with to help provide intellectual property education and promote the career benefits of innovation and entrepreneurship?

16. What else should the USPTO consider when determining the ideal NNECOO?

While the Office welcomes and values all comments from the public in response to this request, the comments submitted do not bind the Office to any further actions related to the comments, and the Office may not respond to any or every comment that is submitted. The Office will, however, consider all written submissions.

Any and all decisions made with regard to the future locations of the RO and COOs will be made consistent with the criteria outlined in the UAIA and the goals and mission of the USPTO.

Katherine K. Vidal,
Under Secretary of Commerce for Intellectual Property and Director of the United States Patent and Trademark Office.

[FR Doc. 2023-11987 Filed 6-5-23; 8:45 am]

BILLING CODE 3510-16-P